DEPARTMENT OF THE INTERIOR

National Park Service

[NPS-WASO-NRNHL-22866; PPWOCRADI0, PCU00RP14.R50000]

National Register of Historic Places; Notification of Pending Nominations and Related Actions

AGENCY: National Park Service, Interior.

ACTION: Notice.

SUMMARY: The National Park Service is soliciting comments on the significance of properties nominated before January 28, 2017, for listing or related actions in the National Register of Historic Places.

DATES: Comments should be submitted by March 14, 2017.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before January 28, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

DELAWARE

New Castle County

Cox—Phillips—Mitchell Agricultural Complex, 1651 & 1655 Old Wilmington Rd., Hockessin vicinity, SG100000729

GEORGIA

De Kalb County

Longview—Huntley Hills Historic District, Montford, Commodore & Admiral Drs., Shallowford Rd., Chamblee, SG100000730

KENTUCKY

Adair County

Columbia Commercial Historic District, Roughly centered around the Columbia Public Square, Columbia, SG100000733

Bracken County

Bold House, 98 Main St., Foster, SG100000734

Campbell County

Doyle Country Club, 37 Mary Ingalls Hwy., Dayton, SG100000735

Clark County

Bush, V.W., 127 N. Main St., Winchester, SG100000737

Jefferson County

Haury Motor Company Showroom and Garage, 741 S. 3rd St., Louisville, SG100000739

Calvary Evangelical Lutheran Church, 1838 Bardstown Rd., Louisville, SG100000740

Jessamine County

Waveland (Boundary Increase), (Jessamine County MRA), 2299 Brannon Rd., Nicholasville vicinity, BC100000741

McCracken County

Paducah City Hall, 300 S. 5th St., Paducah, SG100000742

Rowan County

Rowan County Courthouse (Boundary Increase), Main St., Morehead, BC100000743

Shelby County

Scearce—Roush House, (Shelby County MRA), 2460 Conner Station Rd., Simpsonville, MP100000745

Warren County

Dodson, J.D., House, (Architecture of James Maurice Ingram MPS), 943 Covington St., Bowling Green, MP100000746

Woodford County

Old Taylor Distillery, 4445 McCracken Pike, Frankfort, SG100000747

MICHIGAN

Shiawassee County

Corunna High School, 106 S. Shiawassee St., Corunna, SG100000748

Wayne County

Saint Rita Apartments, 35 Owen St., Detroit, SG100000749

MINNESOTA

Dakota County

Oheyawahi—Pilot Knob, off MN 55, Mendota Heights, 03001374

MISSOURI

Jackson County

Executive Plaza Office Building, 720 Main St., Kansas City, SG100000750

St. Louis Independent City

Washington University Dental Department Building, 2647 Locust St., St. Louis, SG100000751

NEW YORK

Broome County

Whitney, Henry, House, 2835 Hickory St., Whitney Point, SG100000752

Chautauqua County

Lakeview Avenue Historic District, 3-907 Lakeview & 55 Newton Aves., 500 E. 6th, 25-47 (odd) & 28 Liberty, 225 & 301 E. 8th, 7 Falconer, 18-19 Strong, Sts., Jamestown, SG100000753

Chenango County

Phillips—Manning House, 154 Nursery St., Coventry, SG100000754

Onondaga County

Lakeview Cemetery, W. Genesee St. near Kane Ave., Skaneateles, SG100000755

Ontario County

Peck, Waltrous, House, 8814 Wesley Rd., West Bloomfield vicinity, SG100000756

SOUTH CAROLINA

Beaufort County

St. Luke's Parish Zion Chapel of Ease Cemetery, 574 William Hilton Pkwy., Hilton Head Island, SG100000727

Nominations submitted by Federal Preservation Officers:

HAWAII

Honolulu County

Little Makalapa Naval Housing Historic District, Palmyra St. & Tarawa Dr., Honolulu, SG100000731

The State Historic Preservation Officer reviewed the nomination and responded to the Federal Preservation Officer within 45 days of receipt of the nomination and supports listing the property in the National Register of Historic Places.

Makalapa Naval Housing Historic District, Roughly bounded by HI1, Kamehameha Hwy., Radford & Makalapa Drs., Honolulu, SG100000732

The State Historic Preservation Officer reviewed the nomination and responded to the Federal Preservation Officer within 45 days of receipt of the nomination and supports listing the property in the National Register of Historic Places.

UTAH

Washington County

Shem Dam, Address Restricted, Ivins vicinity, SG100000759

The State Historic Preservation Officer reviewed the nomination and responded to the Federal Preservation Officer within 45 days of receipt of the nomination and supports listing the property in the National Register of Historic Places.

A request for removal has been made for the following resource(s):

UTAH

Utah County

Verd's Fruit Market Complex, (Orem, Utah MPS), 1320 N. State St, Orem, OT10000731

An additional documentation has been received for the following resource(s):

KENTUCKY

Jefferson County

Whiskey Row Historic District, 105 W. Main St., Louisville, AD89000385

Rowan County

Rowan County Courthouse, Main St., Morehead, AD83002862

TEXAS

Travis County

Lions Municipal Golf Course, 2901 Enfield Rd., Austin, AD16000354

Authority: 60.13 of 36 CFR part 60.

J. Paul Loether,
Chief, National Register of Historic Places/National Historic Landmarks Program.

[FR Doc. 2017-03736 Filed 2-24-17; 8:45 am]

BILLING CODE 4312-52-P